DEPARTMENT OF ENERGY

Federal Energy Regulatory Commission

[Docket Nos. CP02-116-000 and CP02-117-000]

Tennessee Gas Pipeline Company; Notice of Intent To Prepare an Environmental Assessment For the Proposed South Texas Expansion Project and Request for Comments on Environmental Issues, and Notice of Site Visit

April 11, 2002.

The staff of the Federal Energy Regulatory Commission (FERC or Commission) will prepare an environmental assessment (EA) that will discuss the environmental impacts of the South Texas Expansion Project involving construction and operation of facilities by Tennessee Gas Pipeline Company (Tennessee) in Hidalgo, Victoria, and Nueces Counties, Texas.¹ These facilities would consist of about 17 miles of various diameter pipeline and 9,470 horsepower (hp) of compression. This EA will be used by the Commission in its decision-making process to determine whether the project is in the public convenience and necessity.

¹ Tennessee's application was filed with the Commission under Section 3 and Section 7 of the Natural Gas Act and Part 153 and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Tennessee provided to landowners. This fact sheet addresses a number of typically asked questions, including the use of eminent domain and how to participate in the Commission's proceedings. It is available for viewing on the FERC Internet website (www.ferc.gov).

Summary of the Proposed Project

Tennessee wants to expand the capacity of its facilities in Texas to transport 320,000 Decatherms per day of natural gas to a delivery point located at the International Boundary between the United States in Hidalgo County, Texas and Mexico in the State of Tamaulipas (International Boundary). Tennessee seeks Section 7”) authority to construct and operate:

• 9.28 miles of 30-inch-diameter lateral (Rio Bravo Lateral) in Hidalgo County, Texas, which would commence from milepost 9.02 on Tennessee's existing Pipeline No. 409A-100 (Donna Line) to an interconnection at the International Boundary;

• 7.58 miles of 24-inch-diameter loop of Tennessee's Donna Line in Hidalgo County, Texas;

• A new compressor station consisting of two gas-fired reciprocating compressors rated at 4,735 hp each and located near the town of Edinburg in Hidalgo County, Texas (Edinburg Compressor Station);

• A new meter station near the interconnection of the Rio Bravo Lateral and Tennessee's border crossing facility at the International Boundary; and

• Modifications of Tennessee's existing Compressor Station 1 located in Nueces County, Texas, and existing Compressor Station 9 located in Victoria County, Texas.

In addition, Tennessee requests Section 3 authorization and a Presidential Permit to site, construct, and operate a border crossing facility at the terminus of the Rio Bravo Lateral for the importation and exportation of natural gas at the International Boundary. Tennessee's border crossing facility would consist of a 1,800-foot-long segment of 30-inch-diameter pipeline which would interconnect with a proposed pipeline in Mexico to be constructed by Gasoducto del Rio, a wholly owned Mexican subsidiary of EDF International. Tennessee's proposed project and the Gasoducto del Rio pipeline would provide natural gas service to a developing power generation complex (Rio Bravo Market) comprised of four new electric power plants located in Northern Mexico.

The general location of the South Texas Expansion Project facilities is shown in appendix 1.²

² The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

Construction of the proposed facilities would require about 276.5 acres of land. Following construction, about 118.9 acres would be maintained as permanent right-of-way, including 9.5 acres for new aboveground facility sites. The remaining 157.6 acres of temporary workspace would be restored and allowed to revert to its former use.

The EA Process

The National Environmental Policy Act (NEPA) requires the Commission to take into account the environmental impacts that could result from an action whenever it considers the issuance of a Certificate of Public Convenience and Necessity. NEPA also requires us³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils

• Water resources, fisheries, and wetlands

• Vegetation and wildlife

• Endangered and threatened species

• Land use

• Cultural resources

• Air quality and noise

• Public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified several issues that we think deserve attention based on a preliminary review of the proposed facilities and the environmental information provided by Tennessee. This preliminary list of issues may be changed based on your comments and our analysis.

• Six single-family residences are within 50 feet of the proposed pipeline construction corridors.

• A directionally drilled crossing of the Rio Grande River.

• The Edinburg Compressor Station would effect the local air quality and noise environment.

Also, we have made a preliminary decision to not address the impacts of the nonjurisdictional facilities. We will briefly describe their location and status in the EA.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas 1, PJ-11.1.

• Reference Docket Nos. CP02-116-000 and CP02-117-000.

• Mail your comments so that they will be received in Washington, DC on or before May 13, 2002.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's web site at http://www.ferc.gov under the “e-Filing” link and the link to the User's Guide. Before you can file comments you will need to create a free account which can be created by clicking on “Login to File” and then “New User Account.”

We may mail the EA for comment. If you are interested in receiving it, please return the Information Request (appendix 4). If you do not return the Information Request, you will be taken off the mailing list.

Site Visit

On April 22, 2002, the staff of the OEP will conduct a site inspection of the proposed South Texas Expansion Project facilities in Hidalgo County, Texas. Anyone interested in attending the site inspection should contact the Commission's Office of External Affairs at (202) 208-1088 for more details and must provide their own transportation.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EA.

Additional Information

Additional information about the proposed project is available from the Commission's Office of External Affairs at (202) 208-1088 (direct line) or you can call the FERC operator at 1-800-847-8885 and ask for External Affairs. Information is also available on the FERC website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2222.

Linwood A. Watson, Jr.,
Deputy Secretary.

[FR Doc. 02-9281 Filed 4-16-02; 8:45 am]

BILLING CODE 6717-01-P